DEPARTMENT OF JUSTICE

Executive Office for Immigration Review

Agency Information Collection Activities: Proposed Extension of Currently Approved Collection; Comments Requested

ACTION: 60-day notice of information collection under review; extension of currently approved collection; immigration practitioner complaint form.

The United States Department of Justice, Executive Office for Immigration Review, has submitted the following information collection request to the Office of Management and Budget (OMB) for review and approval in accordance with the Paperwork Reduction Act of 1995. The proposed information collection is published to obtain comments from the public and affected agencies. Comments are encouraged and will be accepted for 60 days until December 17, 2002. This process is in accordance with 5 CFR 1320.10.

If you have any comments, especially on the estimated public burden or associated response time, or suggestions, or need a copy of the proposed information collection instrument with instructions or additional information, please contact Charles Adkins-Blanch, General Counsel, Office of the General Counsel, Executive Office for Immigration Review, 5107 Leesburg Pike, Suite 2600, Falls Church, VA 22041.

Written comments and suggestions from the public and affected agencies concerning the proposed extension of a currently approved information collection instrument are encouraged. Your comments should address one or more of the following four points:

(1) Evaluate whether the collection of information is necessary for the proper performance of the functions of the agency/component, including whether the information will have practical utility;

(2) Evaluate the accuracy of the agencies/components estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of Currently Approved Collection.

(2) Title of the Form/Collection: Immigration Practitioner Complaint Form.

(3) Agency form number, if any, and the applicable component of the Department of Justice sponsoring the collection: Form EOIR-44. Executive Office for Immigration Review.

(4) Affected public who will be asked or required to respond, as well as a brief abstract: Primary: Individuals. Other: Not-for-profit institutions, federal government. The information on this form will be used to determine whether or not, assuming the truth of the factual allegations raised therein, the Office of the General Counsel, Executive Office for Immigration Review, should conduct a preliminary disciplinary inquiry, request additional information from the responding complainant, refer the matter to a state bar disciplinary authority or other law enforcement agency, or take no further action.

(5) An estimate of the total number of respondents and the amount of time estimated for an average responded to respond: There are approximately 500 respondents who will each require 2 hours to respond.

(6) An estimate of the total public burden (in hours) associated with the collection: The total annual public burden for this information collection is estimated to be 1,000 annual burden hours.

If additional information is required contact: Mr. Robert B. Briggs, Clearance Officer, United States Department of Justice, Information Management and Security Staff, Justice Management Division, 601 D Street, NW., Washington, DC 20004.

Dated: October 15, 2002.
Robert B. Briggs,
Clearance Officer, Department of Justice.

[FR Doc. 02-26559 Filed 10-17-02; 8:45 am]

BILLING CODE 4410-30-M